ENVIRONMENTAL PROTECTION AGENCY

[OECA-2005-0014; FRL-7969-4]

Agency Information Collection Activities: Submission to OMB for Review and Approval; Comment Request; State Review Framework; EPA ICR Number 2185.01; Correction

AGENCY: Environmental Protection Agency (EPA).

ACTION: Notice; correction.

SUMMARY: The Environmental Protection Agency published a document in the Federal Register of August 31, 2005, concerning request for comments on guidance requirements for state reporting (State Review Framework). The document contained incorrect dates and incorrect summary language.

FOR FURTHER INFORMATION CONTACT: Arthur Horowitz, (202) 564-2612.

Corrections

In the Federal Register of August 31, 2005, in FR Doc. 05-17361, on page 51779, at the top of the second column, correct the SUPPLEMENTARY INFORMATION caption to read:

Any comments related to this ICR should be submitted to EPA within 30 days of this notice.

In the Federal Register of August 31, 2005, in FR Doc. 05-17361, on page 51778, in the last column, correct the SUMMARY caption to read:

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

Dated: September 6, 2005.
Oscar Morales,
Director, Collection Strategies Division.

[FR Doc. 05-18709 Filed 9-19-05; 8:45 am]

BILLING CODE 6560-50-P